FEDERAL RESERVE SYSTEM

Change in Bank Control Notices, Acquisition of Shares of Bank or Bank Holding Companies; Correction

This notice corrects a notice (FR Doc. E8-14916 published on page 37970 of the issue for Wednesday, July 2, 2008.

Under the Federal Reserve Bank of Kansas City heading, the entry for Brian Wallman, Denver, Colorado, is revised to read as follows:

A. Federal Reserve Bank of Kansas City (Todd Offenbacker, Assistant Vice President) 1 Memorial Drive, Kansas City, Missouri 64198-0001:

1. Brian Wallman, individually and as a member of the Wallman Family Group; and Liam Wallman, both of Denver, Colorado; Zachary Sherwin, Adam Sherwin and Emily Sherwin, all of Union, Nebraska; Molly Sherwin, Omaha, Nebraska; and Susan Sherwin, Nebraska City, Nebraska, all members of the Wallman Family Group, to retain control of Wallco, Inc., and thereby indirectly retain control of Nehawka Bank, both in Nehawka, Nebraska

Comments on this application must be received by July 16, 2008.

Board of Governors of the Federal Reserve System, July 7, 2008.
Robert deV. Frierson,
Deputy Secretary of the Board.

[FR Doc. E8-15689 Filed 7-9-08; 8:45 am]

BILLING CODE 6210-01-S